Title 3—

The President

Proclamation 10126 of December 4, 2020

Recognizing the Sovereignty of the Kingdom of Morocco Over the Western Sahara

By the President of the United States of America

A Proclamation

The United States affirms, as stated by previous Administrations, its support for Morocco's autonomy proposal as the only basis for a just and lasting solution to the dispute over the Western Sahara territory. Therefore, as of today, the United States recognizes Moroccan sovereignty over the entire Western Sahara territory and reaffirms its support for Morocco's serious, credible, and realistic autonomy proposal as the only basis for a just and lasting solution to the dispute over the Western Sahara territory. The United States believes that an independent Sahrawi State is not a realistic option for resolving the conflict and that genuine autonomy under Moroccan sovereignty is the only feasible solution. We urge the parties to engage in discussions without delay, using Morocco's autonomy plan as the only framework to negotiate a mutually acceptable solution. To facilitate progress toward this aim, the United States will encourage economic and social development with Morocco, including in the Western Sahara territory, and to that end will open a consulate in the Western Sahara territory, in Dakhla, to promote economic and business opportunities for the region.

NOW, THEREFORE, I, DONALD J. TRUMP, President of the United States of America, by virtue of the authority vested in me by the Constitution and the laws of the United States, do hereby proclaim that, the United States recognizes that the entire Western Sahara territory is part of the Kingdom of Morocco.

IN WITNESS WHEREOF, I have hereunto set my hand this fourth day of December, in the year of our Lord two thousand twenty, and of the Independence of the United States of America the two hundred and forty-fifth.

[FR Doc. 2020-27738

Filed 12-14-20; 11:15 am]

Billing code 3295-F1-P